DEPARTMENT OF COMMERCE

International Trade Administration

[A-580-815, A-580-816]

Cold-Rolled and Corrosion Resistant Carbon Steel Flat Products From Korea: Extension of Time Limits for the Final Results of Antidumping Administrative Review

AGENCY: Import Administration, International Trade Administration, Department of Commerce.

ACTION: Notice of extension of time limits for the final results of antidumping duty administrative review.

EFFECTIVE DATE: October 19, 2001.

FOR FURTHER INFORMATION CONTACT: James Doyle at (202) 482-0159; Import Administration, International Trade Administration, U.S. Department of Commerce, 14th Street and Constitution Avenue NW, Washington, DC 20230.

Statutory Time Limits

Section 751(a)(3)(A) of the Tariff Act of 1930, as amended (“the Act”), requires the Department of Commerce (“the Department”) to issue the final results of an antidumping duty investigation within 120 days of the date the preliminary results are issued. However, if the Department concludes that it is not practicable to issue the results by the original deadline, it may extend the 120-day period to 180 days.

Background

On October 2, 2000, the Department initiated the above-referenced review. See Notice of Initiation of Antidumping and Countervailing Duty Administrative Reviews and Requests for Revocation in Part, 65 FR 58733 (October 2, 2000). The preliminary results were published in the Federal Register on September 11, 2001. See Certain Cold-Rolled and Corrosion-Resistant Carbon Steel Flat Products From the Republic of Korea: Notice of Preliminary Results of Antidumping Duty Administrative Review (“Preliminary Results”), 66 FR 47163 (September 11, 2001). The current due date for the final results is January 9, 2001.

Extension of Time Limits for the Final Results

Due to the complexity of issues involved in these cases, such as complicated cost accounting, downstream home market affiliated parties, and the addition of a new respondent in this seventh administrative review, it is not practicable to complete these reviews within the original time limit. Therefore, the Department has postponed the deadline for issuing the final results until March 11, 2002, which is 180 days after publication of the Preliminary Results.

Dated: October 12, 2001.
Richard O. Weible,
Acting Deputy Assistant Secretary, AD/CVD Enforcement Group III.

[FR Doc. 01-26447 Filed 10-18-01; 8:45 am]

BILLING CODE 3510-DS-P